DEPARTMENT OF THE INTERIOR

National Park Service

CORRECTION—Notice of Inventory Completion for Native American Human Remains and Associated Funerary Objects in the Possession of the Museum of Natural History and Planetarium, Roger Williams Park, Providence, RI

AGENCY: National Park Service, Interior.

ACTION: Notice.

Notice is hereby given in accordance with provisions of the Native American Graves Protection and Repatriation Act (NAGPRA), 43 CFR 10.9, of the completion of an inventory of human remains and associated funerary objects in the possession of the Museum of Natural History and Planetarium, Roger Williams Park, Providence, RI.

This notice corrects and supercedes the Notice of Inventory Completion published May 3, 2001, by substituting “Wampanoag Tribe of Gay Head (Aquinnah)” for “Wampanoag Repatriation Confederation, representing the Wampanoag Tribe of Gay Head (Aquinnah), the Mashpee Wampanoag (a non-Federally recognized Indian group), and the Assonet Band of the Wampanoag Nation (a non-Federally recognized Indian group)” in each reference to groups that were consulted, groups that were affiliated with human remains and associated funerary objects listed in the notice, groups to which copies of this notice had been sent, and groups participating in the repatriation of these human remains and associated funerary objects. Paragraphs 3, 5, 7, 9, 11, 13, 15, 17, and 18 of the May 3, 2001, notice are corrected by this substitution. The full corrected text of the notice follows.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Museum of Natural History and Planetarium professional staff in consultation with representatives of the Narragansett Indian Tribe of Rhode Island and Wampanoag Tribe of Gay Head (Aquinnah).

In 1899, human remains representing one individual were recovered from Jamestown, RI, by James H. Clarke and donated to the Museum of Natural History and Planetarium. No known individual was identified. The two associated funerary objects are an iron axe fragment and an animal bone fragment.

Based on red ochre and copper staining on the human remains, this individual has been determined to be Native American from the contact period. Based on physical evidence and geographic/provenience information, this individual has been determined to be culturally affiliated with the Narragansett Indian Tribe of Rhode Island and Wampanoag Tribe of Gay Head (Aquinnah).

Before May 1939, human remains representing two individuals were recovered from Old Warwick, near Wharf Road, East Greenwich, RI, by Lincoln C. Bateson, who donated these human remains to the Museum of Natural History and Planetarium in May 1939. No known individuals were identified. No associated funerary objects are present.

Based on museum documentation and physical evidence, these individuals have been identified as Native American. Based on physical evidence and geographic/provenience information, these individuals have been determined to be culturally affiliated with the Narragansett Indian Tribe of Rhode Island and Wampanoag Tribe of Gay Head (Aquinnah).

In 1854, human remains representing one individual were recovered from the Stone Bridge Inn site (RI 1947), Tiverton, RI, by person(s) unknown, and donated to the Museum of Natural History and Planetarium in 1903. No known individual was identified. No associated funerary objects are present.

Based on museum documentation and physical evidence, this individual has been identified as Native American. Based on physical evidence and geographic/provenience information, this individual has been determined to be culturally affiliated with the Narragansett Indian Tribe of Rhode Island and Wampanoag Tribe of Gay Head (Aquinnah).

In 1927, human remains representing one individual were recovered from London Street, East Greenwich, RI, and donated to the Museum of Natural History and Planetarium by W.E. Crease. No known individual was identified. No associated funerary objects are present. Accession information states these human remains were “dug up on London Street, 10 feet deep.” Based on museum documentation and physical evidence, this individual has been identified as Native American. Based on physical evidence and geographic/provenience information, this individual has been determined to be culturally affiliated with the Narragansett Indian Tribe of Rhode Island and Wampanoag Tribe of Gay Head (Aquinnah).

In 1936, human remains representing one individual were recovered from Melrose Street, West Ferry site, Jamestown, RI, by Roy Johnson, Louis Watson, and others. In 1937, these human remains were donated to the Museum of Natural History and Planetarium by Mr. Johnson. No known individual was identified. The one associated funerary object is a blanket fragment.

Based on museum documentation and physical evidence, this individual has been identified as Native American. Based on physical evidence, consultation with tribal representatives, and geographic/provenience information, this individual has been determined to be culturally affiliated with the Narragansett Indian Tribe of Rhode Island and Wampanoag Tribe of Gay Head (Aquinnah).

In 1894, human remains representing three individuals were recovered from the Burr's Hill Burial Ground, Warren, RI, by A.T. Vaughn, who donated these remains to the Museum of Natural History and Planetarium in 1900. No known individuals were identified. Museum documentation indicates that “curios” were found with these human remains, and were transferred in 1913 to the Heye Foundation (now the National Museum of the American Indian) as part of an exchange. No associated funerary objects are now present in the collections of the Museum of Natural History and Planetarium.

Based on skeletal morphology and extensive copper staining, these individuals have been identified as Native American from the 17th century. Based on physical evidence, consultation with tribal representatives, and geographic/provenience information, these individuals have been determined to be culturally affiliated with the Narragansett Indian Tribe of Rhode Island and Wampanoag Tribe of Gay Head (Aquinnah).

In 1894, human remains representing one individual were recovered from Jamestown, RI, by A.T. Vaughn of the Antiquarian Society of Warren, RI. In 1900, these human remains were donated by Mr. Vaughn to the Museum of Natural History and Planetarium. No known individual was identified. The four associated funerary objects are fragments of bark, hair, iron, and cloth that are adhered to the human remains.

Based on skeletal morphology and extensive copper staining, this individual has been identified as Native American from the contact or proto-historic period. Based on physical evidence, consultation with tribal representatives, and geographic/provenience information, this individual has been determined to be culturally affiliated with the Narragansett Indian Tribe of Rhode Island and Wampanoag Tribe of Gay Head (Aquinnah).

Based on the above-mentioned information, officials of the Museum of Natural History and Planetarium have determined that, pursuant to 43 CFR 10.2 (d)(1), the human remains listed above represent the physical remains of 10 individuals of Native American ancestry. Officials of the Museum of Natural History and Planetarium also have determined that, pursuant to 43 CFR 10.2 (d)(2), the seven objects listed above are reasonably believed to have been placed with or near individual human remains at the time of death or later as part of the death rite or ceremony. Lastly, officials of the Museum of Natural History and Planetarium have determined that, pursuant to 43 CFR 10.2 (e), there is a relationship of shared group identity that can be reasonably traced between these Native American human remains and associated funerary objects and the Narragansett Indian Tribe of Rhode Island and Wampanoag Tribe of Gay Head (Aquinnah).

This notice has been sent to officials of the Narragansett Indian Tribe of Rhode Island and Wampanoag Tribe of Gay Head (Aquinnah). Representatives of any other Indian tribe that believes itself to be culturally affiliated with these human remains and associated funerary objects should contact Marilyn Massaro, Curator of Collections, Museum of Natural History and Planetarium, Roger Williams Park, Providence, RI 02905, telephone (401) 785-9457, before November 5, 2001. Repatriation of the human remains and associated funerary objects to the Narragansett Indian Tribe of Rhode Island and Wampanoag Tribe of Gay Head (Aquinnah) may begin after that date if no additional claimants come forward.

Dated: June 25, 2001.
John Robbins,
Assistant Director, Cultural Resources Stewardship and Partnerships.

[FR Doc. 01-24936 Filed 10-3-01; 8:45 am]

BILLING CODE 4310-70-F